DEPARTMENT OF EDUCATION

[Docket No.: ED-2023-SCC-0114]

Agency Information Collection Activities; Comment Request; Evaluation of the Professional Learning Resources of the REL NW Toolkit for Using Technology To Support Postsecondary Student Learning

AGENCY: Institute of Education Sciences (IES), Department of Education (ED).

ACTION: Notice.

SUMMARY: In accordance with the Paperwork Reduction Act (PRA) of 1995, the Department is proposing a new information collection request (ICR).

DATES: Interested persons are invited to submit comments on or before August 28, 2023.

ADDRESSES: To access and review all the documents related to the information collection listed in this notice, please use http://www.regulations.gov by searching the Docket ID number ED-2023-SCC-0114. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Heidi Gansen, 202-245-6765.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of the Professional Learning Resources of the REL NW Toolkit for Using Technology to Support Postsecondary Student Learning.

OMB Control Number: 1850-NEW.

Type of Review: A new ICR.

Respondents/Affected Public: Individuals and Households.

Total Estimated Number of Annual Responses: 13,177.

Total Estimated Number of Annual Burden Hours: 1,280.

Abstract: The current authorization for the Regional Educational Laboratories (REL) program is under the Education Sciences Reform Act of 2002, Part D, Section 174, (20 U.S.C. 9564), administered by the Department of Education, Institute of Education Sciences (IES), National Center for Education Evaluation and Regional Assistance (NCEE). The central mission and primary function of the RELs is to support applied research and provide technical assistance to state and local education agencies within their region (ESRA, Part D, section 174[f]). The REL program's goal is to partner with educators and policymakers to conduct work that is change-oriented and supports meaningful local, regional, or state decisions about education policies, programs, and practices to improve outcomes for students.

The Regional Educational Laboratory Northwest is developing a toolkit based on the Using Technology to Support Postsecondary Student Learning What Works Clearinghouse (WWC) Practice Guide to support student learning in community college contexts. Community college instructors, across all disciplines, including those who teach in person, hybrid (remote and in person), and online courses, are the primary audience for the Toolkit.

This toolkit's efficacy evaluation will collect information about the professional learning resources, organized as the eAcademy: Professional Learning for Using Technology to Enhance Learning, that will comprise the main component of the Toolkit. In the efficacy study, the eAcademy will be offered to instructors in community colleges in Oregon. The evaluation of the eAcademy includes two parts: first, using a random assignment design, researchers will examine the impact of the eAcademy on instructor knowledge, teaching practices, and student outcomes. Second, researchers will collect implementation data to understand fidelity of implementation, treatment contrast, and how the eAcademy influences instructor and student outcomes.

The research questions include: What is the impact of the eAcademy on instructors' awareness of technology tools for learning, knowledge of how to use technology for learning, and comfort using education technologies to support student learning, what is the impact of the eAcademy on instructors' use of technology to support student learning, and what is the impact of the eAcademy on student engagement, interaction, course completion, and persistence to the next quarter?

The goals of the program evaluation include documenting the content of eAcademy (topics covered and activities provided), the way the eAcademy is implemented, and the treatment dosage to understand fidelity of implementation. The evaluation study will provide further insight into how the eAcademy is related to instructor- and student-level outcomes, and the implementation study will document treatment contrast between the eAcademy and other available professional resources. eAcademy participation data will be used to affirm whether instructors in the treatment group accessed the professional resources and instructors in the control group did not.

Findings from the implementation study may be used to improve future iterations of the eAcademy and to update the WWC Practice Guide recommendations. They may also generate ideas for new approaches to professional development that lead to better outcomes.

Dated: June 23, 2023.
Juliana Pearson,
PRA Coordinator, Strategic Collections and Clearance, Governance and Strategy Division, Office of Chief Data Officer, Office of Planning, Evaluation and Policy Development.

[FR Doc. 2023-13735 Filed 6-27-23; 8:45 am]

BILLING CODE 4000-01-P